DEPARTMENT OF AGRICULTURE

Forest Service

Humboldt (NV) Resource Advisory Committee

AGENCY: Forest Service, USDA.

ACTION: Notice of meeting.

SUMMARY: The Humboldt (NV) Resource Advisory Committee (RAC) will meet in Winnemucca, Nevada. The committee is authorized under the Secure Rural Schools and Community Self-Determination Act (Pub. L. 112-141) (the Act) and operates in compliance with the Federal Advisory Committee Act. The purpose of the RAC is to improve collaborative relationships and to provide advice and recommendations to the Forest Service concerning projects and funding consistent with Title II of the Act. The purpose of the meeting is to review and recommend any new proposed projects authorized under Title II of the Act to the Humboldt-Toiyabe Forest Supervisor and/or review prior year project accomplishments; lacking any new monetary authority, this meeting may be cancelled.

DATES: The meeting will be held on September 24, 2013 at 10:00 a.m., Pacific Standard Time.

ADDRESSES: The meeting will be held at the Humboldt County Court House, Room 201, 50 West 5th Street, Winnemucca, Nevada. The meeting can also be attended by teleconference by dialing 1-888-858-2144, access code 7727626.

Written comments may be submitted as described under Supplementary Information. All comments, including names and addresses when provided, are placed in the record and are available for public inspection and copying.

FOR FURTHER INFORMATION CONTACT: Jeff Ulrich, RAC Designated Federal Official, at 775-352-1215.

Individuals who use telecommunication devices for the deaf (TDD) may call the Federal Information Relay Service (FIRS) at 1-800-877-8339 between 8:00 a.m. and 8:00 p.m., Eastern Standard Time, Monday through Friday.

SUPPLEMENTARY INFORMATION: Anyone who would like to bring related matters to the attention of the committee may file written statements with the Designated Federal Official before the meeting. A meeting agenda, public comments, and the meeting minutes will be posted at the RAC's Web site at http://fs.usda.gov/goto/htnf/rac within 21 days of the meeting. Written comments should be sent to Jeff Ulrich, Designated Federal Official, USDA Forest Service, Santa Rosa Ranger District, 1200 E. Winnemucca Blvd., Winnemucca, Nevada 89445. Comments may also be sent via email to jlulrich@fs.fed.us and/or imburkholder@fs.fed.us, or via facsimile to 775-625-1200.

Meeting Accommodations: If you require sign language interpreting, assistive listening devices or other reasonable accommodation please request this in advance of the meeting by contacting the person listed in the section titled For Further Information Contact.All reasonable accommodation requests are managed on a case by case basis.

Dated: August 19, 2013.
William A. Dunkelberger,
Forest Supervisor Humboldt-Toiyabe National Forest.

[FR Doc. 2013-20851 Filed 8-26-13; 8:45 am]

BILLING CODE 3410-11-P